DEPARTMENT OF JUSTICE

Notice of Lodging of Consent Decree Pursuant to the Clean Air Act

In accordance with Departmental policy and 28 CFR 50.7, the Department of Justice gives notice that a proposed amendment to the Consent Decree previously approved and entered by the Court in the case captioned United States v. Metropolitian Council, Civil Action No. 99-CV-1105 (D. Minn.) was lodged with the United States District Court for the District of Minnesota on September 4, 2001. The United States filed a Complaint in 1999 alleging violations of the Clean Air Act, 42 U.S.C. 7401 et seq., by the Metropolitan Council (“Met”) at its wastewater treatment plant in St. Paul, Minnesota. The United States and Met settled those claims on terms set forth in a Consent Decree lodged with the Court on August 11, 2000. The court entered an Order on February 6, 2001 approving that Consent Decree, and signed the Consent Decree on March 16, 2001.

By agreement between the United States and Met, the existing Consent Decree would be amended to substitute a proposed Amended Appendix C, which would describe a modified Supplemental Environmental Project to be performed by Met under the Consent Decree. No other terms of the Consent Decree would change. The existing Appendix C to the Consent Decree requires that Met expend at least $1.6 million for a Supplemental Environmental Project to add a dry electrostatic precipitator to the air pollution control train of one of the new fluidized bed incinerators to be installed at Met's facility. The proposed Amended Appendix C describes an improved substitute Supplemental Environmental Project, requiring installation of a fabric filter system (rather than a dry electrostatic precipitator) to the air pollution control train of one of the new fluidized bed incinerators at Met's facility. Met and its consultants believe that the fabric filter technology outlined in the Amended Appendix C would result in increased removal of key pollutants, including particulate matter and mercury. Met and its consultants estimate that the total cost of the fabric filter technology would exceed $1.6 million, and would be approximately the same as the cost of a dry electrostatic precipitator. Based on its review of the information provided by Met, the Environmental Protection Agency agrees that the substitute Supplemental Environmental Project is appropriate.

For a period of thirty (30) days from the date of this publication, the Department of Justice will receive comments relating to the proposed amendment to the existing Consent Decree. Comments should be addressed to the Assistant Attorney General, Environment and Natural Resources Division, United States Department of Justice, P.O. Box 7611, Washington, DC 20044-7611, and should refer to United States v. Metropolitan Council, Civil Action No. 99-CV-1105 (D. Minn.), and DOJ Reference Number 90-5-2-1-2243.

A copy of the Consent Decree and proposed Amended Appendix C to the Consent Decree may be examined at: (1) The Office of the United States Attorney for the District of Minnesota, U.S. Courthouse—Room 600, 300 South Fourth Street, Minneapolis, Minnesota 55415 (contact Friedrich Siekert (612-664-5600)); and (2) the U.S. Environmental Protection Agency (Region 5), 77 West Jackson Boulevard, Chicago, Illinois 60604 (contact Mary McAuliffe (312-886-6237)). Copies may also be obtained by mail from the Department of Justice Consent Decree Library, P.O. Box 7611, Washington, DC 20044-7611. In requesting copies, please refer to the above-referenced case name and DOJ Reference Numbers, and enclose a check made payable to the Consent Decree Library for $9.25 for the Consent Decree and the proposed Amended Appendix C to the Consent Decree (37 pages at 25 cents per page reproduction cost) or a check for $0.25 for the Amended Appendix C alone.

William D. Brighton,
Assistant Chief, Environmental Enforcement Section, Environment and Natural Resources Division.

[FR Doc. 01-23168 Filed 9-14-01; 8:45 am]

BILLING CODE 4410-15-M